DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Construction Progress Reporting Surveys.

Form Number(s): C-700, Private Construction Projects; C-700(SL), State and Local Governments Projects; C-700(R), Multi-Family Residential Projects.

Agency Approval Number: 0607-0153.

Type of Request: Revision of a currently approved collection.

Burden: 58,500 hours.

Number of Respondents: 19,500.

Avg. Hours Per Response: 15 minutes.

Needs and Uses: The U.S. Census Bureau conducts the Construction Progress Reporting Surveys (CPRS) to collect information on the dollar value of construction put in place by private companies, individuals, private multifamily residential buildings, and State and local governments. Due to the significant growth in construction activity during the past few years, and to facilitate the publication of construction spending data in more detail by new types of construction, we are increasing the number of respondents/projects sampled.

The C-700 is used to collect data on industrial and manufacturing plants, office buildings, retail buildings, service establishments, religious buildings, schools, universities, hospitals, clinics, and miscellaneous buildings. The C-700(SL) is used to collect data on public schools, courthouses, prisons, hospitals, civic centers, highways, bridges, sewer systems, and water systems. The C-700(R) is used to collect data on residential buildings and apartment projects with two or more housing units.

Data are collected on a sample basis from state and local agency officials, owners of private nonresidential projects, and owners of private multifamily residential building projects. Total projected cost estimates are requested the first month and monthly progress reports are requested until the project is completed.

The Census Bureau uses the information collected on these forms to publish estimates of the monthly value of construction put in place: (1) For nonresidential projects owned by private companies or individuals; (2) for projects owned by state and local agencies; and (3) for multifamily residential building projects owned by private companies or individuals. Statistics from CPRS become part of the monthly “Value of Construction Put in Place” series that is used extensively by the Federal Government in making policy decisions and become part of the gross domestic product (GDP). Construction now accounts for more than eight percent of GDP.

Published statistics are used by all levels of government to evaluate economic policy, to measure progress toward national goals, to make policy decisions, and to formulate legislation. For example, the Bureau of Economic Analysis uses the data to develop national accounts. The Federal Reserve Board and the Department of the Treasury use the value of construction put in place data to forecast GDP. The private sector uses the statistics for market analysis and other research such as estimating the demand for building materials and to schedule production distribution and sales efforts.

Affected Public: Individuals or households; Business or other for-profit; State, local or tribal government; Not-for-profit institutions.

Frequency: Monthly.

Respondent's Obligation: Voluntary.

Legal Authority: Title 13 U.S.C., section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: February 27, 2004.
Madeleine Clayton,
Management Analyst, Office of the Chief Information Officer.

[FR Doc. 04-4709 Filed 3-2-04; 8:45 am]

BILLING CODE 3510-07-P